ENVIRONMENTAL PROTECTION AGENCY

[ER-FRL-6676-9]

Environmental Impacts Statements; Notice of Availability

Responsible Agency: Office of Federal Activities, General Information (202) 564-7167 or http://www.eps.gov/compliance/nepa/.

Weekly receipt of Environmental Impact Statements

Filed 6/26/2006 through 6/30/2006

Pursuant to 40 CFR 1506.9.

Special Notice: EIS's filed June 19 through June 23, 2006 scheduled to appear in the Federal Register on June 30, 2006 was published on Monday July 3, 2006. Comment periods and wait periods will be calculated from June 30, 2006.

EIS No. 20060274, Fifth Draft Supplement, AFS, 00, Northern Spotted Owl Management Plan, Removal or the Modification to the Survey and Management Mitigation Measures, Standards and Guidelines (to the Northwest Forest Plan) New Information to Address Three Deficiencies Final Supplemental EIS (2004), Northwest Forest Plan, OR, WA, and CA, Comment Period Ends: 10/5/2006, Contact: Kathy Anderson 503-808-2256.

EIS No. 20060275, Draft EIS, AFS, OR, Maury Mountains Allotment Management Plan, To Implement or Eliminate Livestock Gazing in Six Allotments in the Maury Mountains of the Ochoco National Forest, Prineville, OR, Comment Period Ends: 8/21/2006, Contact: Kevin Keown 541-416-6500.

EIS No. 20060276, Draft EIS, FRC, TX, Calhoun Point Comfort Liquefied Natural Gas (LNG) Project, (Docket Nos. CP05-91-000 and CP06-380-00) Construction of New Pipeline on 73 acres, Port of Port Lavaca, Calhoun and Jackson Counties, TX, Comment Period Ends: 8/21/2006, Contact: Todd Sedmak 1-866-208-FERC.

EIS No. 20060277, Draft EIS, NNS, NM, Los Alamos National Laboratory Continued Operations, Los Alamos County, NM, Comment Period Ends: 9/5/2006, Contact: Elizabeth Wither 505-845-4984.

EIS No. 20060278, Draft DIS, NOA, 00, North Atlantic Right Whale Ship Strike Reduction Strategy, To Implement the Operational Measures to Reduce the Occurrence and Severity of Vessel Collisions with the Right Whale, Serious Injury and Deaths Resulting from Collisions with Vessels, Comment Period Ends: 9/5/2006, Contact: Jessica Gribbon 703-706-9404.

EIS No. 20060279, Final Supplement, AFS, 00, Southwestern Region Amendment of Forest Plans, Implementation, Updated Information, Standards and Guidelines for Northern Goshawk and Mexican Spotted Owl, AZ and NM, Wait Period Ends: 8/7/2006, Contact Rita Moots 505-842-3125.

EIS No. 20060280, Draft EIS, AFS, 00, North Zone Range 05 Project, Reauthorizing Livestock Grazing on Eight Existing Allotments, Black Hills National Forest, Bearlodge and Northern Hills Ranger Districts, Crook County, WY and Lawrence County, SD, Comment Period Ends: 8/21/2006. Contact: Alice Allen 605-673-4853.

Amended Notices

EIS No. 20060178, Draft EIS, WPA, 00, Big Stone II Power Plant and Transmission Project, Propose Power Plant, Transmission Alternatives, and Substation Modification (DOE/EIS-0377), U.S. Army COE Section 10 and 404 Permits, Big Stone City, Grant County, SD and Big Stone County, MN, Comment Period Ends: 7/24/2006, Contact: Nancy Werdel 720-962-7251.

Revision of Federal Register Notice Published on 5/19/2006: Extended Comment Period from 7/3/2006 to 7/24/2006.

Dated: July 3, 2006.
Ken Mittelholtz,
Environmental Protection Specialist, Office of Federal Activities.

[FR Doc. 06-6077 Filed 7-6-06; 8:45 am]

BILLING CODE 6560-50-M